ENVIRONMENTAL PROTECTION AGENCY

[ER-FRL-9007-2]

Environmental Impacts Statements; Notice of Availability

Responsible Agency: Office of Federal Activities, General Information (202) 564-7146 or http://www.epa.gov/compliance/nepa/.

Weekly Receipt of Environmental Impact Statements

Filed 01/07/2013 Through 01/11/2013

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp.

Draft EISs

EIS No. 20130002, Draft EIS, NRCS, 00, Henrys Fork Salinity Control Project Plan, Irrigation Improvements, Sweetwater and Uinta Counties, WY and Daggett and Summit Counties, WY, Comment Period Ends: 03/04/2013, Contact: Astrid Martinez 307-233-6750.

EIS No. 20130003, Draft EIS, NPS, CA, Tuolumne Wild and Scenic River Comprehensive Management Plan, Yosemite National Park, CA, Comment Period Ends: 03/18/2013, Contact: Kathleen Morse 209-379-1270.

EIS No. 20130005, Draft EIS, NPS, CA, Merced Wild and Scenic River Comprehensive Management Plan, Yosemite National Park, CA, Comment Period Ends: 04/18/2013, Contact: Kathleen Morse 209-579-1270.

EIS No. 20130007, Draft EIS, BLM, NV, Arturo Mine Project, Development, Elko County, NV, Comment Period Ends: 03/04/2013, Contact: John Daniel 775-753-0277.

Final EISs

Pursuant to 40 CFR 1506.10(b)(2), no decision on the proposed action evaluated in the following Final EISs shall be made or recorded by a Federal Agency until after 02/19/2013. However, an exception to this limitation may be made and a decision can be recorded at the same time the Final EIS is published where an agency decision is subject to a formal internal appeal or when the time period is waived.

EIS No. 20130004, Final EIS, NOAA, 00, Issuing Annual Quotas to the Alaska Eskimo Whaling Commission (AEWC) for a Subsistence Hunt on Bowhead Whales for the Years 2013 through 2017/2018, Contact: Steven K. Davis 907-271-3523.

EIS No. 20130006, Final EIS, NRC, MI, Enrico Fermi Unit 3 Combined License (COL) Application, Construction and Operation of a Power Reactor, U.S. Corp of Engineer 10 and 404 Permits, NUREG-2105, Monroe County, MI, Contact: Bruce Olson 301-415-3731.

EIS No. 20130008, Final EIS, NPS, 00, Blue Ridge Parkway General Management Plan, Implementation, Virginia and North Carolina, Contact: Chris Church 303-969-2276.

Amended Notices

EIS No. 20120362, Draft EIS, BLM, CA, Casa Diablo IV Geothermal Development Project, Mono County, CA, Comment Period Ends: 01/15/2013, Contact: Collin Reinhardt 760-872-5024.

Revision to FR Notice Published 11/16/2012; Extending Comment Period from 01/15/2013 to 01/30/2013.

Dated: January 15, 2013.
Cliff Rader,
Director, NEPA Compliance Division, Office of Federal Activities.

[FR Doc. 2013-01083 Filed 1-17-13; 8:45 am]

BILLING CODE 6560-50-P